ENVIRONMENTAL PROTECTION AGENCY

40 CFR Parts 141, 142, and 143

[FRL-7563-3]

RIN 2040-AD37, 2040-AD38

Stakeholder Meetings Concerning the Long-Term 2 Enhanced Surface Water Treatment Rule and Stage 2 Disinfectants and Disinfection Byproducts Rule Proposals; Notice of Public Meetings

AGENCY: Environmental Protection Agency.

ACTION: Notice of meetings.

SUMMARY: Notice is hereby given of two public stakeholder meetings on the following proposed drinking water regulations: The Long-Term 2 Enhanced Surface Water Treatment Rule (LT2ESWTR) (68 FR 47639, August 11, 2003) and the Stage 2 Disinfectants and Disinfection Byproducts Rule (DBPR) (68 FR 49547, August 18, 2003). The Environmental Protection Agency (EPA) is developing these regulations under the Safe Drinking Water Act, as amended (42 U.S.C. 300f et seq.), to increase protection against risks associated with microbial pathogens and disinfection byproducts (DBPs) in drinking water. The purpose of these meetings is to provide information that will assist stakeholders in evaluating the proposals, which are currently open for public comment.

The meetings will be held as teleconferences and presentation slides will be broadcast using the Internet. EPA will present the same information at both meetings, with the second meeting intended for those unable to participate in the first. The call-in number and Internet address for these meetings will be provided to participants upon registration. See the SUPPLEMENTARY INFORMATION section in this notice for information on how to register.

DATES: The first meeting will be held from 1:00 p.m. to 4:00 p.m., Eastern standard time on October 9, 2003. The second meeting will be held at the same time of day on October 16, 2003.

FOR FURTHER INFORMATION CONTACT: For general background information or to obtain a copy of the LT2ESWTR and Stage 2 DBPR proposals, please contact the Safe Drinking Water Hotline, phone: (800) 426-4791 or (703) 285-1093, e-mail: hotline-sdwa@epa.gov. For additional information about these meetings, please contact Dan Schmelling, Office of Ground Water and Drinking Water (MC 4607M), U.S. Environmental Protection Agency, 1200 Pennsylvania Ave., NW., Washington, DC 20460, phone: (202) 564-5281,e-mail: schmelling.dan@epa.gov.

SUPPLEMENTARY INFORMATION: To participate in these meetings, please register at the following Internet site: http://e1.e2c.com/enc/enc_pc_regPage?rpgid=10633189770192. Any person needing special accommodations for these meetings should contact Dan Schmelling (see FOR FURTHER INFORMATION CONTACT section) at least five business days before the meeting so that appropriate arrangements can be made.

The LT2ESWTR applies to all public water systems that use surface water or ground water under the direct influence of surface water. This proposed regulation would establish additional risk-targeted treatment requirements for Cryptosporidium. It also contains provisions to address risks associated with uncovered finished water storage facilities and to ensure systems maintain microbial protection as they take steps to reduce the formation of DBPs.

The Stage 2 DBPR applies to all public water systems that add a disinfectant other than ultraviolet light. This proposed regulation would establish revised procedures for monitoring and determining compliance with the maximum contaminant levels for trihalomethanes (THMs) and haloacetic acids (HAAs). It contains specific provisions for consecutive systems.

During the meetings announced herein, EPA will present summary information on the LT2ESWTR and Stage 2 DBPR. This will include public health concerns, proposed regulatory requirements, implementation schedules, estimated costs and benefits, implementation tools, and other issues. These presentations are designed to aid the public in understanding the proposals and developing comments on them. These meetings are not intended to solicit public comments on the proposals. Anyone seeking to submit comments must follow the procedures specified in section I.C. of the proposals, as published in the Federal Register (citations noted previously).

Dated: September 16, 2003.
Nanci E. Gelb,
Acting Director, Office of Ground Water and Drinking Water.

[FR Doc. 03-24121 Filed 9-18-03; 12:01 pm]

BILLING CODE 6560-50-P